DEPARTMENT OF TRANSPORTATION

Federal Motor Carrier Safety Administration

Qualification of Drivers; Exemption Applications; Vision

AGENCY: Federal Motor Carrier Safety Administration (FMCSA), DOT.

ACTION: Notice of denials.

SUMMARY: The FMCSA is publishing the names of persons denied exemptions from the vision standard in 49 CFR 391.41(b)(10) and the reasons for the denials.

FOR FURTHER INFORMATION CONTACT: For information about the applications addressed in this notice, Ms. Teresa Doggett, Office of Bus and Truck Standards and Operations, MC-PSD, (202) 366-2990; for information about legal issues related to this notice, Mr. Joe Solomey, Office of the Chief Counsel, (202) 366-1374, FMCSA, 400 Seventh Street, SW., Washington, D.C. 20590-0001. Office hours are from 7:45 a.m. to 4:15 p.m., e.t., Monday through Friday, except Federal holidays.

SUPPLEMENTARY INFORMATION: The Secretary of Transportation (Secretary) has the authority under 49 U.S.C. 31502 and 31136 to establish standards for physical qualifications that must be met by commercial motor vehicle drivers in interstate commerce. These standards are published in Part 391 of the Federal Motor Carrier Safety Regulations. The history and delegation of authority to the Federal Motor Carrier Safety Administration (FMCSA) was published in the Federal Register on January 4, 2000 (65 FR 220).

Background

On June 9, 1998, the FHWA's waiver authority changed with enactment of the Transportation Equity Act for the 21st Century (TEA-21), Public Law 105-178, 112 Stat. 107. Section 4007 of TEA-21 amended the waiver provisions of 49 U.S.C. 31136(e) and 31315 to change the standard for evaluating waiver requests, to distinguish between a waiver and an exemption, and to establish term limits for both. Under revised section 31136(e), the FMCSA may grant a waiver for a period of up to 3 months or an exemption for a renewable 2-year period.

The amendments to 49 U.S.C. 31136(e) also changed the criteria for exempting a person from application of a regulation. Previously an exemption was appropriate if it was consistent with the public interest and the safe operation of CMVs. Now the FMCSA may grant an exemption if it finds “such exemption would likely achieve a level of safety that is equivalent to, or greater than, the level that would be achieved absent such exemption.” According to the legislative history, the Congress changed the statutory standard to give the agency greater discretion to consider exemptions. The previous standard was judicially construed as requiring an advance determination that absolutely no reduction in safety would result from an exemption. The Congress revised the standard to require that an “equivalent” level of safety be achieved by the exemption.

The FMCSA individually evaluated 247 exemption requests on their merits, as required by the decision in Rauenhorst v. United States Department of Transportation, Federal Highway Administration, 95 F. 3d. 715 (8th Cir. 1996), and determined that the applicants do not satisfy the criteria established to demonstrate that granting the exemptions is likely to achieve an equal or greater level of safety than exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

Two hundred and six applicants lacked sufficient recent driving experience over the past three years. Thirteen applicants lacked at least three years of experience driving a commercial motor vehicle with their respective vision deficiencies. Two applicants had no experience driving a commercial motor vehicle. Five applicants were convicted of moving violations in conjunction with accidents. An applicant for an exemption cannot be involved in an accident for which he or she received a citation for a moving violation. Two applicants could not qualify for the exemption because they were convicted of three speeding violations in a three-year period, thus exceeding the two speeding violation maximum in a three-year period to qualify for the vision exemption. Two applicants had their licenses suspended during the three-year period and, therefore, could not qualify for the exemption. Two applicants did not qualify for the vision exemption because, in addition to the vision deficiency, they have other disqualifying medical conditions, and cannot meet the physical qualifications standards found at 49 CFR 391.41. One applicant did not have sufficient peripheral vision in the better eye to qualify for an exemption. Fourteen applicants did not qualify for the exemption because they meet the vision standards at 49 CFR 391.41(b)(10).

Summary of Causes for Not Granting Exemptions

The FMCSA has denied the following petitions for exemption from the vision standard in 49 CFR 391.41(b)(10). In accordance with 49 U.S.C. 31315(b)(4) and 31136(e), the agency is publishing the names of the applicants and the reasons for not granting exemptions.

1. Darryl P. Aalvik

Mr. Aalvik does not have sufficient driving experience over the past 3 years under normal highway operating conditions that would serve as an adequate predictor of future safe performance.

2. Raymond Albernaz

Mr. Albernaz does not have sufficient driving experience over the past 3 years under normal highway operating conditions that would serve as an adequate predictor of future safe performance.

3. Jesse D. Alligood

Mr. Alligood does not have sufficient driving experience over the past 3 years under normal highway operating conditions that would serve as an adequate predictor of future safe performance.

4. Roberto E. Alvarado

Mr. Alvarado has no experience operating a commercial motor vehicle and therefore presented no evidence from which the FMCSA can conclude that granting the exemption is likely to achieve a level of safety equal to that existing without the exemption.

5. Tracy Ammons

Mr. Ammons does not have sufficient driving experience over the past 3 years under normal highway operating conditions that would serve as an adequate predictor of future safety performance.

6. Mike Anderson

Mr. Anderson does not have 3 years of experience driving a commercial motor vehicle with his vision deficiency.

7. Melvin R. Athey, Jr.

Mr. Athey does not have sufficient driving experience over the past 3 years under normal highway operating conditions that would serve as an adequate predictor of future safe performance.

8. Doug Aulbach

Mr. Aulbach does not have sufficient driving experience over the past 3 years under normal highway operating conditions that would serve as an adequate predictor of future safe performance.

9. Richard M. Ault

Mr. Ault does not have sufficient driving experience over the past 3 years under normal highway operating conditions that would serve as an adequate predictor of future safe performance.

10. John W. Badgley

Mr. Badgley does not have sufficient driving experience over the past 3 years under normal highway operating conditions that would serve as an adequate predictor of future safe performance.

11. Stanley C. Bailey

Mr. Bailey does not have sufficient driving experience over the past 3 years under normal highway operating conditions that would serve as an adequate predictor of future safe performance.

12. John E. Baker

Mr. Baker does not have sufficient driving experience over the past 3 years under normal highway operating conditions that would serve as an adequate predictor of future safe performance.

13. William H. Ballew

Mr. Ballew does not have sufficient driving experience over the past 3 years under normal highway operating conditions that would serve as an adequate predictor of future safe performance.

14. Michael L. Balmer

Mr. Balmer does not have sufficient driving experience over the past 3 years under normal highway operating conditions that would serve as an adequate predictor of future safe performance.

15. Bobby Balusek, Sr.

Mr. Balusek does not have sufficient driving experience over the past 3 years under normal highway operating conditions that would serve as an adequate predictor of future safe performance.

16. Timothy D. Barger

Mr. Barger does not have sufficient driving experience over the past 3 years under normal highway operating conditions that would serve as an adequate predictor of future safe performance.

17. Ronald Becklund

Mr. Becklund does not have sufficient driving experience over the past 3 years under normal highway operating conditions that would serve as an adequate predictor of future safe performance.

18. James J. Belfiore

Mr. Belfiore does not have sufficient driving experience over the past 3 years under normal highway operating conditions that would serve as an adequate predictor of future safe performance.

19. Martin Bellcour

Mr. Bellcour does not have 3 years recent experience driving a commercial motor vehicle with his vision deficiency.

20. Donald Bersano

Mr. Bersano does not have sufficient driving experience over the past 3 years under normal highway operating conditions that would serve as an adequate predictor of future safe performance.

21. Paul D. Berube

Mr. Berube does not have sufficient driving experience over the past 3 years under normal highway operating conditions that would serve as an adequate predictor of future safe performance.

22. Walter E. Bible

Mr. Bible does not have sufficient driving experience over the past 3 years under normal highway operating conditions that would serve as an adequate predictor of future safe performance.

23. John M. Bigler

Mr. Bigler does not have sufficient driving experience over the past 3 years under normal highway operating conditions that would serve as an adequate predictor of future safe performance.

24. William Bonivich

Mr. Bonivich does not have sufficient driving experience over the past 3 years under normal highway operating conditions that would serve as an adequate predictor of future safe performance.

25. Allen G. Bors

Mr. Bors does not have sufficient driving experience over the past 3 years under normal highway operating conditions that would serve as an adequate predictor of future safe performance.

26. Claude Bowden

Mr. Bowden does not have sufficient driving experience over the past 3 years under normal highway operating conditions that would serve as an adequate predictor of future safe performance.

27. Howard A. Bradeen

Mr. Bradeen does not have sufficient driving experience over the past 3 years under normal highway operating conditions that would serve as an adequate predictor of future safe performance.

28. Russell Bradshaw

Mr. Bradshaw does not have sufficient driving experience over the past 3 years under normal highway operating conditions that would serve as an adequate predictor of future safe performance.

29. Joe C. Briones

Mr. Briones does not have sufficient driving experience over the past 3 years under normal highway operating conditions that would serve as an adequate predictor of future safe performance.

30. William R. Broman

Mr. Broman does not have sufficient driving experience over the past 3 years under normal highway operating conditions that would serve as an adequate predictor of future safe performance.

31. Andrew E. Brown

Mr. Brown does not have sufficient driving experience over the past 3 years under normal highway operating conditions that would serve as an adequate predictor of future safe performance.

32. Anthony D. Brown

Mr. Brown does not have sufficient driving experience over the past 3 years under normal highway operating conditions that would serve as an adequate predictor of future safe performance.

33. Richard D. Brown

Mr. Brown does not have sufficient driving experience over the past 3 years under normal highway operating conditions that would serve as an adequate predictor of future safe performance.

34. Saul Brown

Mr. Brown does not have sufficient driving experience over the past 3 years under normal highway operating conditions that would serve as an adequate predictor of future safe performance.

35. Robert J. Bruce

Mr. Bruce does not have sufficient driving experience over the past 3 years under normal highway operating conditions that would serve as an adequate predictor of future safe performance.

36. Franklin Brume

Mr. Brume meets the vision requirements at 49 CFR 391.41(b)(10). According to an exam, his corrected visual acuity is 20/20 in the right eye and 20/25 in the left eye. He does not need a vision exemption.

37. Charles Buller

Mr. Buller does not have sufficient driving experience over the past 3 years under normal highway operating conditions that would serve as an adequate predictor of future safe performance.

38. Clifford Burnside

Mr. Burnside does not have 3 years recent experience driving a commercial motor vehicle with his vision deficiency.

39. Joseph Cameron

Mr. Cameron does not have sufficient driving experience over the past 3 years under normal highway operating conditions that would serve as an adequate predictor of future safe performance.

40. Timothy Campo

Mr. Campo does not have sufficient driving experience over the past 3 years under normal highway operating conditions that would serve as an adequate predictor of future safe performance.

41. Bobby R. Carroll

Mr. Carroll does not have sufficient driving experience over the past 3 years under normal highway operating conditions that would serve as an adequate predictor of future safe performance.

42. Corey J. Catt

Mr. Catt does not have sufficient driving experience over the past 3 years under normal highway operating conditions that would serve as an adequate predictor of future safe performance.

43. William J. Caudill

Mr. Caudill does not have sufficient driving experience over the past 3 years under normal highway operating conditions that would serve as an adequate predictor of future safe performance.

44. Charles R. Chambers

Mr. Chambers does not have sufficient driving experience over the past 3 years under normal highway operating conditions that would serve as an adequate predictor of future safe performance.

45. Al Chance

Mr. Chance does not have sufficient driving experience over the past 3 years under normal highway operating conditions that would serve as an adequate predictor of future safe performance.

46. John D. Chaney

Mr. Chaney does not have sufficient driving experience over the past 3 years under normal highway operating conditions that would serve as an adequate predictor of future safe performance.

47. Jay A. Chapman

Mr. Chapman does not have sufficient driving experience over the past 3 years under normal highway operating conditions that would serve as an adequate predictor of future safe performance.

48. James Christian

Mr. Christian does not have sufficient driving experience over the past 3 years under normal highway operating conditions that would serve as an adequate predictor of future safe performance.

49. Stanley Christman

Mr. Christman does not have sufficient driving experience over the past 3 years under normal highway operating conditions that would serve as an adequate predictor of future safe performance.

50. Edward Cieslik

Mr. Cieslik does not have sufficient driving experience over the past 3 years under normal highway operating conditions that would serve as an adequate predictor of future safe performance.

51. Anthony T. Cinque

Mr. Cinque does not have sufficient driving experience over the past 3 years under normal highway operating conditions that would serve as an adequate predictor of future safe performance.

52. Peter D. Clark

Mr. Clark does not have sufficient driving experience over the past 3 years under normal highway operating conditions that would serve as an adequate predictor of future safe performance.

53. Lindon R. Coates

Mr. Coates does not have sufficient driving experience over the past 3 years under normal highway operating conditions that would serve as an adequate predictor of future safe performance.

54. Robert Coates, Jr.

Mr. Coates does not have sufficient driving experience over the past 3 years under normal highway operating conditions that would serve as an adequate predictor of future safe performance.

55. Roger L. Collins

Mr. Collins was charged with a moving violation on August 20, 1996, in conjunction with an accident, which disqualifies him.

56. Rusbel P. Contreras

Mr. Contreras does not have sufficient driving experience over the past 3 years under normal highway operating conditions that would serve as an adequate predictor of future safe performance.

57. George E. Cooper

Mr. Cooper does not have sufficient driving experience over the past 3 years under normal highway operating conditions that would serve as an adequate predictor of future safe performance.

58. Charles Cornwell

Mr. Cornwell does not have sufficient driving experience over the past 3 years under normal highway operating conditions that would serve as an adequate predictor of future safe performance.

59. Randy Cowgill

Mr. Cowgill does not have sufficient driving experience over the past 3 years under normal highway operating conditions that would serve as an adequate predictor of future safe performance.

60. David L. Creamer

Mr. Creamer does not have sufficient driving experience over the past 3 years under normal highway operating conditions that would serve as an adequate predictor of future safe performance.

61. Jo E. Crocker

Mr. Crocker does not have sufficient driving experience over the past 3 years under normal highway operating conditions that would serve as an adequate predictor of future safe performance.

62. Gerald Culverwell

Mr. Culverwell does not have sufficient driving experience over the past 3 years under normal highway operating conditions that would serve as an adequate predictor of future safe performance.

63. Jefferey A. Darge

Mr. Darge does not have sufficient driving experience over the past 3 years under normal highway operating conditions that would serve as an adequate predictor of future safe performance.

64. Eric Davis, Sr.

Mr. Davis does not have sufficient driving experience over the past 3 years under normal highway operating conditions that would serve as an adequate predictor of future safe performance.

65. Milton Day

Mr. Day had three commercial motor vehicle speeding violations within a 3-year period while operating a commercial motor vehicle. He does not qualify since each applicant is allowed only 2 citations.

66. William A. Decker

Mr. Decker had three commercial motor vehicle speeding violations within a 3-year period while operating a commercial motor vehicle. He does not qualify since each applicant is allowed only 2 citations.

67. Bradley D. DeHaven

Mr. DeHaven meets the vision requirements at 49 CFR 391.41(b)(10) according to his most recent eye exam. His corrected visual acuity is 20/20 in the right eye and 20/40 in the left eye. He does not need an exemption.

68. George P. Deon

Mr. Deon does not have three years of experience driving a commercial motor vehicle with his vision deficiency.

69. Rod Dowden-Parrott

Mr. Dowden-Parrott does not have sufficient driving experience over the past 3 years under normal highway operating conditions that would serve as an adequate predictor of future safe performance.

70.William E. Droll, Jr

Mr. Droll does not have sufficient driving experience over the past 3 years under normal highway operating conditions that would serve as an adequate predictor of future safe performance.

71. George Eicholz

Mr. Eicholz does not have sufficient driving experience over the past 3 years under normal highway operating conditions that would serve as an adequate predictor of future safe performance.

72. Frederick B. Ellis

Mr. Ellis does not have 3 years recent experience driving a commercial motor vehicle with his vision deficiency.

73. Van Emery, Jr.

Mr. Emery does not have sufficient driving experience over the past 3 years under normal highway operating conditions that would serve as an adequate predictor of future safety performance.

74. Mitchell E. Estep

Mr. Estep meets the vision requirements at 49 CFR 391.41(b)(10) according to his most recent eye exam. The doctor was able to correct the driver's vision to 20/40 in the weaker left eye. The right eye is normal with an uncorrected visual acuity of 20/20. He does not need an exemption.

75. John Evenson

Mr. Evenson does not have sufficient driving experience over the past 3 years under normal highway operating conditions that would serve as an adequate predictor of future safe performance.

76. Mark Everline

Mr. Everline does not have sufficient driving experience over the past 3 years under normal highway operating conditions that would serve as an adequate predictor of future safe performance.

77. Loel Faulkinham

Mr. Faulkinham does not have sufficient peripheral vision in the better eye to qualify for an exemption.

78. Thomas Ferris

Mr. Ferris does not have sufficient driving experience over the past 3 years under normal highway operating conditions that would serve as an adequate predictor of future safe performance.

79. Jerald Ford

Mr. Ford does not have sufficient driving experience over the past 3 years under normal highway operating conditions that would serve as an adequate predictor of future safe performance.

80. Vernon L. Forman

Mr. Forman has other medical conditions making him otherwise unqualified under the Federal Motor Carrier Safety Regulations. All applicants must meet all other physical qualifications standards in 49 CFR 391.41(b)(1-13).

81. Hyman Fowler

Mr. Fowler does not have sufficient driving experience over the past 3 years under normal highway operating conditions that would serve as an adequate predictor of future safe performance.

82. Michael S. Gancasz

Mr. Gancasz does not have sufficient driving experience over the past 3 years under normal highway operating conditions that would serve as an adequate predictor of future safe performance.

83. Martin E. Gard

Mr. Gard does not have sufficient driving experience over the past 3 years under normal highway operating conditions that would serve as an adequate predictor of future safe performance.

84. Alexander J. Gater

Mr. Gater does not have sufficient driving experience over the past 3 years under normal highway operating conditions that would serve as an adequate predictor of future safe performance.

85. William C. Greenberg

Mr. Greenberg does not have sufficient driving experience over the past 3 years under normal highway operating conditions that would serve as an adequate predictor of future safe performance.

86. David J. Greenwood

Mr. Greenwood does not have sufficient driving experience over the past 3 years under normal highway operating conditions that would serve as an adequate predictor of future safe performance.

87. William K. Grider

Mr. Grider does not have sufficient driving experience over the past 3 years under normal highway operating conditions that would serve as an adequate predictor of future safe performance.

88. Mark A. Grissom

Mr. Grissom does not have sufficient driving experience over the past 3 years under normal highway operating conditions that would serve as an adequate predictor of future safe performance.

89. Harold Gunter

Mr. Gunter meets the vision requirements at 49 CFR 391.41(b)(10). His corrected visual acuity is 20/20 in the right eye and 20/30 in the left eye. He does not need an exemption.

90. Jeffrey Hahn, Jr.

Mr. Hahn does not have sufficient driving experience over the past 3 years under normal highway operating conditions that would serve as an adequate predictor of future safe performance.

91. James W. Harris

Mr. Harris does not have 3 years of experience driving a commercial motor vehicle with his vision deficiency.

92. Johnny W. Hartley

Mr. Hartley does not have sufficient driving experience over the past 3 years under normal highway operating conditions that would serve as an adequate predictor of future safe performance.

93. Calvin Hastings

Mr. Hastings does not have sufficient driving experience over the past 3 years under normal highway operating conditions that would serve as an adequate predictor of future safe performance.

94. Timmie E. Headley

Mr. Headley does not have sufficient driving experience over the past 3 years under normal highway operating conditions that would serve as an adequate predictor of future safe performance.

95. Thomas E. Henderson, Sr.

Mr. Henderson does not have sufficient driving experience over the past 3 years under normal highway operating conditions that would serve as an adequate predictor of future safe performance.

96. Terry Hendrickson

Mr. Hendrickson does not have sufficient driving experience over the past 3 years under normal highway operating conditions that would serve as an adequate predictor of future safe performance.

97. Robert Henrikson

Mr. Henrikson does not have sufficient driving experience over the past 3 years under normal highway operating conditions that would serve as an adequate predictor of future safe performance.

98. Francis K. Hill

Mr. Hill does not have sufficient driving experience over the past 3 years under normal highway operating conditions that would serve as an adequate predictor of future safe performance.

99. Donn Hinkle

Mr. Hinkle does not have sufficient driving experience over the past 3 years under normal highway operating conditions that would serve as an adequate predictor of future safe performance.

100. James Hoeft

Mr. Hoeft does not have 3 years of experience driving a commercial motor vehicle with his vision deficiency.

101. Craig Hoffman

Mr. Hoffman does not have sufficient driving experience over the past 3 years under normal highway operating conditions that would serve as an adequate predictor of future safe performance.

102. James B. Houchins

Mr. Houchins does not have sufficient driving experience over the past 3 years under normal highway operating conditions that would serve as an adequate predictor of future safe performance.

103. Willie J. Howard, Jr.

Mr. Howard does not have sufficient driving experience over the past 3 years under normal highway operating conditions that would serve as an adequate predictor of future safe performance.

104. Randy C. Howell

Mr. Howell does not have sufficient driving experience over the past 3 years under normal highway operating conditions that would serve as an adequate predictor of future safe performance.

105. William J. Humphrey

Mr. Humphrey does not have sufficient driving experience over the past 3 years under normal highway operating conditions that would serve as an adequate predictor of future safe performance.

106. Aldeny Hurst, Jr.

Mr. Hurst does not have sufficient driving experience over the past 3 years under normal highway operating conditions that would serve as an adequate predictor of future safe performance.

107. Danny L. Hyde

Mr. Hyde does not have sufficient driving experience over the past 3 years under normal highway operating conditions that would serve as an adequate predictor of future safe performance.

108. James Jackson

Mr. Jackson does not have sufficient driving experience over the past 3 years under normal highway operating conditions that would serve as an adequate predictor of future safe performance.

109. Keith W. Jackson

Mr. Jackson does not have sufficient driving experience over the past 3 years under normal highway operating conditions that would serve as an adequate predictor of future safe performance.

110. Kelvin C. Jackson

Mr. Jackson does not have sufficient driving experience over the past 3 years under normal highway operating conditions that would serve as an adequate predictor of future safe performance.

111. Monte L. Jarvis

Mr. Jarvis does not have sufficient driving experience over the past 3 years under normal highway operating conditions that would serve as an adequate predictor of future safe performance.

112. Chris D. Johnson

Mr. Johnson does not have sufficient driving experience over the past 3 years under normal highway operating conditions that would serve as an adequate predictor of future safe performance.

113. Curtis Jones

Mr. Jones does not have sufficient driving experience over the past 3 years under normal highway operating conditions that would serve as an adequate predictor of future safe performance.

114. Derek L. Jones

Mr. Jones does not have sufficient driving experience over the past 3 years under normal highway operating conditions that would serve as an adequate predictor of future safe performance.

115. Harold D. Jones

Mr. Jones does not have sufficient driving experience over the past 3 years under normal highway operating conditions that would serve as an adequate predictor of future safe performance.

116. Paul Jones

Mr. Jones does not have sufficient driving experience over the past 3 years under normal highway operating conditions that would serve as an adequate predictor of future safe performance.

117. James J. Keranen

Mr. Keranen does not have sufficient driving experience over the past 3 years under normal highway operating conditions that would serve as an adequate predictor of future safe performance.

118. Leora J. Kirby

Ms. Kirby does not have sufficient driving experience over the past 3 years under normal highway operating conditions that would serve as an adequate predictor of future safe performance.

119. Mark Knochelman

Mr. Knochelman does not have sufficient driving experience over the past 3 years under normal highway operating conditions that would serve as an adequate predictor of future safe performance.

120. Kelly R. Konesky

Mr. Konesky does not have sufficient driving experience over the past 3 years under normal highway operating conditions that would serve as an adequate predictor of future safe performance.

121. Charles P. Landrus

Mr. Landrus does not have sufficient driving experience over the past 3 years under normal highway operating conditions that would serve as an adequate predictor of future safe performance.

122. Gary B. Laramore, Sr.

Mr. Laramore does not have sufficient driving experience over the past 3 years under normal highway operating conditions that would serve as an adequate predictor of future safe performance.

123. John Lawrence

Mr. Lawrence does not have sufficient driving experience over the past 3 years under normal highway operating conditions that would serve as an adequate predictor of future safe performance.

124. Didge Lawson

Mr. Lawson does not have sufficient driving experience over the past 3 years under normal highway operating conditions that would serve as an adequate predictor of future safe performance.

125. Byron K. Leggett

Mr. Leggett does not have sufficient driving experience over the past 3 years under normal highway operating conditions that would serve as an adequate predictor of future safe performance.

126. Ray P. Lenz

Mr. Lenz does not have sufficient driving experience over the past 3 years under normal highway operating conditions that would serve as an adequate predictor of future safe performance.

127. Earnest W. Lewis

Mr. Lewis does not have 3 years of experience driving a commercial motor vehicle with his vision deficiency.

128. Jerry P. Lindesmith

Mr. Lindesmith does not have 3 years of experience driving a commercial motor vehicle with his vision deficiency.

129. James S. Loggins

Mr. Loggins does not have sufficient driving experience over the past 3 years under normal highway operating conditions that would serve as an adequate predictor of future safe performance.

130. Billy W. Long

Mr. Long does not have sufficient driving experience over the past 3 years under normal highway operating conditions that would serve as an adequate predictor of future safe performance.

131. William Long

Mr. Long does not have sufficient driving experience over the past 3 years under normal highway operating conditions that would serve as an adequate predictor of future safe performance.

132. Michael C. Love

Mr. Love does not have sufficient driving experience over the past 3 years under normal highway operating conditions that would serve as an adequate predictor of future safe performance.

133. Herman G. Lovell

Mr. Lovell does not have sufficient driving experience over the past 3 years under normal highway operating conditions that would serve as an adequate predictor of future safe performance.

134. Bruce A. Lucas

Mr. Lucas does not have sufficient driving experience over the past 3 years under normal highway operating conditions that would serve as an adequate predictor of future safe performance.

135. Marvin M. Lundquist

Mr. Lundquist meets vision requirements at 49 CFR 391.41(b)(10). According to a July 14, 1999, eye exam, his corrected visual acuity is 20/20 in the right eye and 20/30 in the left eye. He does not need an exemption.

136. Randall S. Lunge

Mr. Lunge does not have sufficient driving experience over the past 3 years under normal highway operating conditions that would serve as an adequate predictor of future safe performance.

137. James E. Lutt

Mr. Lutt does not have sufficient driving experience over the past 3 years under normal highway operating conditions that would serve as an adequate predictor of future safe performance.

138. Mervin D. Lytle

Mr. Lytle does not have sufficient driving experience over the past 3 years under normal highway operating conditions that would serve as an adequate predictor of future safe performance.

139. Jacob D. Maestas

Mr. Maestas does not have sufficient driving experience over the past 3 years under normal highway operating conditions that would serve as an adequate predictor of future safe performance.

140. Roland J. Mandigo

Mr. Mandigo does not have sufficient driving experience over the past 3 years under normal highway operating conditions that would serve as an adequate predictor of future safe performance.

141. Michael R. Mangan

Mr. Mangan does not have sufficient driving experience over the past 3 years under normal highway operating conditions that would serve as an adequate predictor of future safe performance.

142. David J. Mansfield

Mr. Mansfield does not have sufficient driving experience over the past 3 years under normal highway operating conditions that would serve as an adequate predictor of future safe performance.

143. Harold W. Martin

Mr. Martin does not have sufficient driving experience over the past 3 years under normal highway operating conditions that would serve as an adequate predictor of future safe performance.

144. Patrick J. Martin, Jr.

Mr. Martin does not have sufficient driving experience over the past 3 years under normal highway operating conditions that would serve as an adequate predictor of future safe performance.

145. Jose L. Martinez

Mr. Martinez meets the vision requirements at 49 CFR 391.41(b)(10). His corrected visual acuity is 20/20 in the right eye and 20/30 in the left eye. He does not need an exemption.

146. Mark A. Massengill

Mr. Massengill does not have sufficient driving experience over the past 3 years under normal highway operating conditions that would serve as an adequate predictor of future safe performance.

147. Jason Masterson

Mr. Masterson does not have sufficient driving experience over the past 3 years under normal highway operating conditions that would serve as an adequate predictor of future safe performance.

148. Walter P. Mathys

Mr. Mathys does not have sufficient driving experience over the past 3 years under normal highway operating conditions that would serve as an adequate predictor of future safe performance.

149. Gerald M. McCay

Mr. McCay does not have sufficient driving experience over the past 3 years under normal highway operating conditions that would serve as an adequate predictor of future safe performance.

150. Dennis M. McDaniel

Mr. McDaniel does not have sufficient driving experience over the past 3 years under normal highway operating conditions that would serve as an adequate predictor of future safe performance.

151. Donald R. McGee

Mr. McGee does not have sufficient driving experience over the past 3 years under normal highway operating conditions that would serve as an adequate predictor of future safe performance.

152. Bernard F. McIlonie

Mr. McIlonie does not have sufficient driving experience over the past 3 years under normal highway operating conditions that would serve as an adequate predictor of future safe performance.

153. Charles O. McWhortler

Mr. McWhortler does not have sufficient driving experience over the past 3 years under normal highway operating conditions that would serve as an adequate predictor of future safe performance.

154. Felipe Medina

Mr. Medina does not have 3 years of experience driving a commercial motor vehicle with his vision deficiency.

155. Rosalio Mendoza

Mr. Mendoza does not have sufficient driving experience over the past 3 years under normal highway operating conditions that would serve as an adequate predictor of future safe performance.

156. Nicholas Mercorella, Jr.

Mr. Mercorella does not have sufficient driving experience over the past 3 years under normal highway operating conditions that would serve as an adequate predictor of future safe performance.

157. Dennis Michaelis

Mr. Michaelis meets the vision requirements at 49 CFR 392.41(b)(10). His vision is corrected to 20/40 in the right eye and 20/20 in the left eye. He does not need an exemption.

158. Charles B. Miller

Mr. Miller does not have sufficient driving experience over the past 3 years under normal highway operating conditions that would serve as an adequate predictor of future safe performance.

159. Darian T. Miller

Mr. Miller does not have sufficient driving experience over the past 3 years under normal highway operating conditions that would serve as an adequate predictor of future safe performance.

160. David S. Moore

Mr. Moore meets the vision requirements at 49 CFR 391.41(b)(10). According to his most recent eye exam the doctor states that his corrected visual acuity is 20/25 in the right eye and 20/40 in the left eye. He does not need an exemption.

161. Jimmy L. Moore

Mr. Moore was involved in an accident on 7/3/98 and was issued a citation for an “Improper Turn.” This is a disqualifying offense. An applicant for an exemption cannot be involved in an accident for which he or she received a citation for a moving violation.

162. Philip B.Moore

Mr. Moore does not have 3 years of experience driving a commercial motor vehicle with his vision deficiency.

163. Doug Moos

Mr. Moos does not have sufficient driving experience over the past 3 years under normal highway operating conditions that would serve as an adequate predictor of future safe performance.

164. Benjamin C. Morris

Mr. Morris does not have sufficient driving experience over the past 3 years under normal highway operating conditions that would serve as an adequate predictor of future safe performance.

165. Theodore C. Morris

Mr. Morris does not have sufficient driving experience over the past 3 years under normal highway operating conditions that would serve as an adequate predictor of future safe performance.

166. David L. Norris

Mr. Norris does not have sufficient driving experience over the past 3 years under normal highway operating conditions that would serve as an adequate predictor of future safe performance.

167. Guillermo G. Nuncio

Mr. Nuncio meets the vision requirements at 49 CFR 391.41(b)(10). According to his most recent eye exam, the doctor states that his corrected visual acuity is 20/25 in the right eye and 20/20 in the left eye. He does not need an exemption.

168. Will H. Ogburn

Mr. Ogburn does not have sufficient driving experience over the past 3 years under normal highway operating conditions that would serve as an adequate predictor of future safe performance.

169. Howard J. Oliver, II

Mr. Oliver does not have sufficient driving experience over the past 3 years under normal highway operating conditions that would serve as an adequate predictor of future safe performance.

170. Keith E. Page

Mr. Page does not have sufficient driving experience over the past 3 years under normal highway operating conditions that would serve as an adequate predictor of future safe performance.

171. Jeffery A. Pate

Mr. Pate does not have sufficient driving experience over the past 3 years under normal highway operating conditions that would serve as an adequate predictor of future safe performance.

172. Craig B. Peay

Mr. Peay does not have sufficient driving experience over the past 3 years under normal highway operating conditions that would serve as an adequate predictor of future safe performance.

173. Randy R. Pedeferri

Mr. Pedeferri does not have sufficient driving experience over the past 3 years under normal highway operating conditions that would serve as an adequate predictor of future safe performance.

174. Rafael O. Perez

Mr. Perez does not have sufficient driving experience over the past 3 years under normal highway operating conditions that would serve as an adequate predictor of future safe performance.

175. Jeffrey Peterson

Mr. Peterson does not have sufficient driving experience over the past 3 years under normal highway operating conditions that would serve as an adequate predictor of future safe performance.

176. David A. Petsch

Mr. Petsch does not have sufficient driving experience over the past 3 years under normal highway operating conditions that would serve as an adequate predictor of future safe performance. He does not have 3 years experience driving a commercial motor vehicle with the vision deficiency.

177. Marvin L. Pond

Mr. Pond does not have sufficient driving experience over the past 3 years under normal highway operating conditions that would serve as an adequate predictor of future safe performance.

178. Vicki L. Powell

Ms. Powell does not have sufficient driving experience over the past 3 years under normal highway operating conditions that would serve as an adequate predictor of future safe performance.

179. James H. Prewitt, Jr.

Mr. Prewitt does not have sufficient driving experience over the past 3 years under normal highway operating conditions that would serve as an adequate predictor of future safe performance.

180. Welcome W. Pryor, Jr.

Mr. Pryor does not have sufficient driving experience over the past 3 years under normal highway operating conditions that would serve as an adequate predictor of future safe performance.

181. James A. Reay

Mr. Reay does not have sufficient driving experience over the past 3 years under normal highway operating conditions that would serve as an adequate predictor of future safe performance.

182. Christopher Reed

Mr. Reed does not have sufficient driving experience over the past 3 years under normal highway operating conditions that would serve as an adequate predictor of future safe performance.

183. Kenion L. Reid

Mr. Reid does not have sufficient driving experience over the past 3 years under normal highway operating conditions that would serve as an adequate predictor of future safe performance.

184. Elmer A. Richmeier

Mr. Richmeier does not have sufficient driving experience over the past 3 years under normal highway operating conditions that would serve as an adequate predictor of future safe performance.

185. Leslie O. Roberson

Mr. Roberson's commercial driver's license was suspended in December 1996 for failing to comply with a fine for a moving violation. He does not qualify for an exemption since he had a suspension during the 3-year period.

186. William Rogers

Mr. Rogers does not have 3 years recent experience driving a commercial motor vehicle with his vision deficiency.

187. Robert L. Roy

Mr. Roy was involved in an accident on July 22, 1997, and he was convicted of “Following Improperly.” He does not qualify for an exemption since he was involved in an accident for which he received a citation for a moving violation.

188. Christopher A. Roystan

Mr. Roystan does not have sufficient driving experience over the past 3 years under normal highway operating conditions that would serve as an adequate predictor of future safe performance.

189. Brian K. Ruch

Mr. Ruch does not qualify for an exemption because of involvement in two serious violations and a license suspension during the 3-year period.

190. Robert L. Rundall

Mr. Rundall does not have sufficient driving experience over the past 3 years under normal highway operating conditions that would serve as an adequate predictor of future safe performance.

191. Steven E. Russell

Mr. Russell does not have sufficient driving experience over the past 3 years under normal highway operating conditions that would serve as an adequate predictor of future safe performance.

192. Eugene Ryals

Mr. Ryals does not have sufficient driving experience over the past 3 years under normal highway operating conditions that would serve as an adequate predictor of future safe performance.

193. Robert A. Ryals

Mr. Ryals does not have sufficient driving experience over the past 3 years under normal highway operating conditions that would serve as an adequate predictor of future safe performance.

194. Donald E. Sanders

Mr. Sanders does not have sufficient driving experience over the past 3 years under normal highway operating conditions that would serve as an adequate predictor of future safe performance.

195. Dawna M. Saunders

Ms. Saunders does not have sufficient driving experience over the past 3 years under normal highway operating conditions that would serve as an adequate predictor of future safe performance.

196. James Schaaf

Mr. Schaaf does not have sufficient driving experience over the past 3 years under normal highway operating conditions that would serve as an adequate predictor of future safe performance.

197. Ted Schmidt

Mr. Schmidt does not meet all other physical qualifications standards in 49 CFR 391.41(b)(1-13) to qualify for an exemption.

198. James R. Schnaiter

Mr. Schnaiter does not have sufficient driving experience over the past 3 years under normal highway operating conditions that would serve as an adequate predictor of future safe performance.

199. Jeffery Scholl

Mr. Scholl does not have sufficient driving experience over the past 3 years under normal highway operating conditions that would serve as an adequate predictor of future safe performance.

200. Paul E. Schwartz

Mr. Schwartz does not have sufficient driving experience over the past 3 years under normal highway operating conditions that would serve as an adequate predictor of future safe performance.

201. James A. Scott, Jr.

Mr. Scott does not have sufficient driving experience over the past 3 years under normal highway operating conditions that would serve as an adequate predictor of future safe performance.

202. Robert G. Seils

Mr. Seils does not have sufficient driving experience over the past 3 years under normal highway operating conditions that would serve as an adequate predictor of future safe performance.

203. Carl Sendelbach

Mr. Sendelbach does not have sufficient driving experience over the past 3 years under normal highway operating conditions that would serve as an adequate predictor of future safe performance.

204. Robert Shelley

Mr. Shelley does not have sufficient driving experience over the past 3 years under normal highway operating conditions that would serve as an adequate predictor of future safe performance.

205. Jeffery W. Shelton

Mr. Shelton does not have sufficient driving experience over the past 3 years under normal highway operating conditions that would serve as an adequate predictor of future safe performance.

206. Kirk S. Shenberger

Mr. Shenberger does not have sufficient driving experience over the past 3 years under normal highway operating conditions that would serve as an adequate predictor of future safe performance.

207. Jack Shropshire

Mr. Shropshire does not have sufficient driving experience over the past 3 years under normal highway operating conditions that would serve as an adequate predictor of future safe performance.

208. Donald V. Sill

Mr. Sill does not have sufficient driving experience over the past 3 years under normal highway operating conditions that would serve as an adequate predictor of future safe performance.

209. Gurdeep Singh

Mr. Singh does not have sufficient driving experience over the past 3 years under normal highway operating conditions that would serve as an adequate predictor of future safe performance.

210. Harold E. Singley

Mr. Singley does not have sufficient driving experience over the past 3 years under normal highway operating conditions that would serve as an adequate predictor of future safe performance.

211. Tony Slaughter

Mr. Slaughter does not have 3 years recent experience driving a commercial motor vehicle with his vision deficiency.

212. Gary A. Sluder

Mr. Sluder does not have sufficient driving experience over the past 3 years under normal highway operating conditions that would serve as an adequate predictor of future safe performance.

213. Robert P. Smith

Mr. Smith does not have sufficient driving experience over the past 3 years under normal highway operating conditions that would serve as an adequate predictor of future safe performance.

214. William C. Smith

Mr. Smith does not have sufficient driving experience over the past 3 years under normal highway operating conditions that would serve as an adequate predictor of future safe performance.

215. Patrick W. Sokolik

Mr. Sokolik does not have sufficient driving experience over the past 3 years under normal highway operating conditions that would serve as an adequate predictor of future safe performance.

216. John W. Sommerfeldt

Mr. Sommerfeldt does not have sufficient driving experience over the past 3 years under normal highway operating conditions that would serve as an adequate predictor of future safe performance.

217. Jean Sommers

Ms. Sommers has no experience operating a commercial motor vehicle and therefore presented no evidence from which the FMCSA can conclude that granting the exemption is likely to achieve a level of safety equal to that existing without the exemption.

218. William A. Sonderegger

Mr. Sonderegger does not have sufficient driving experience over the past 3 years under normal highway operating conditions that would serve as an adequate predictor of future safe performance.

219. Marcial Soto-Rivas

Mr. Soto-Rivas was involved in an accident on August 24, 1998, in which he was cited for “Improper Lane Travel.” This is a disqualifying offence. An exemption applicant is not allowed involvement in an accident where a citation is received for a moving violation.

220. W.C. Sparks

Mr. Sparks does not have sufficient driving experience over the past 3 years under normal highway operating conditions that would serve as an adequate predictor of future safe performance.

221. Daren E. Switzer

Mr. Switzer does not have sufficient driving experience over the past 3 years under normal highway operating conditions that would serve as an adequate predictor of future safe performance.

222. Peter B. Sylvester

Mr. Sylvester does not have sufficient driving experience over the past 3 years under normal highway operating conditions that would serve as an adequate predictor of future safe performance.

223. Robert J. Szabo

Mr. Szabo does not have sufficient driving experience over the past 3 years under normal highway operating conditions that would serve as an adequate predictor of future safe performance.

224. Jeffrey M. Taber

Mr. Taber does not have sufficient driving experience over the past 3 years under normal highway operating conditions that would serve as an adequate predictor of future safe performance.

225. George A. Tallent

Mr. Tallent does not have sufficient driving experience over the past 3 years under normal highway operating conditions that would serve as an adequate predictor of future safe performance.

226. Ralph J. Tanner

Mr. Tanner meets the vision requirements at 49 CFR 391.41(b)(10). According to his ophthalmologist, he is 20/20 in the left eye and 20/40 in the right eye uncorrected. He does not need an exemption.

227. Johann Theiss

Mr. Theiss meets the vision requirements at 49 CFR 391.41(b)(10). According to his most recent eye exam, the doctor states that his corrected visual acuity is 20/30 in his right and 20/20 his left eye. He does not need an exemption.

228. Barbara Thompson

Ms. Thompson does not have sufficient driving experience over the past 3 years under normal highway operating conditions that would serve as an adequate predictor of future safe performance.

229. John W. Tozer, Jr.

Mr. Tozer was involved in an accident on February 10, 1999. He was cited for speeding in connection with the accident. An applicant for an exemption cannot be involved in an accident for which he or she received a citation for a moving violation.

230. Omer E. Troyer

Mr. Troyer does not have sufficient driving experience over the past 3 years under normal highway operating conditions that would serve as an adequate predictor of future safe performance.

231. Joseph Van Norman

Mr. Van Norman does not have 3 years recent experience driving a commercial vehicle with his vision deficiency.

232. Jeffery A. Voltz

Mr. Voltz does not have sufficient driving experience over the past 3 years under normal highway operating conditions that would serve as an adequate predictor of future safe performance.

233. Kevin M. Walsh

Mr. Walsh does not have sufficient driving experience over the past 3 years under normal highway operating conditions that would serve as an adequate predictor of future safe performance.

234. David E. Ware

Mr. Ware meets the vision requirements at 49 CFR 391.41(b)(10). His corrected visual acuity is 20/20 in the left eye and 20/40 in the right eye. On June 16, 1999, the Alabama Department of Motor Vehicles removed the intrastate restriction from his commercial license. He does not need an exemption.

235. Charles Warren

Mr. Warren does not have sufficient driving experience over the past 3 years under normal highway operating conditions that would serve as an adequate predictor of future safe performance.

236. Howard N. Webster, Jr.

Mr. Webster does not have sufficient driving experience over the past 3 years under normal highway operating conditions that would serve as an adequate predictor of future safe performance.

237. William K. Wells

Mr. Wells does not have sufficient driving experience over the past 3 years under normal highway operating conditions that would serve as an adequate predictor of future safe performance.

238. Scott T. Welter

Mr. Welter does not have sufficient driving experience over the past 3 years under normal highway operating conditions that would serve as an adequate predictor of future safe performance.

239. Thomas P. Werner

Mr. Werner does not have sufficient driving experience over the past 3 years under normal highway operating conditions that would serve as an adequate predictor of future safe performance.

240. Ricky Whitaker

Mr. Whitaker meets the vision requirements at 49 CFR 391.41(b)(10). He does not need a vision exemption.

241. Matthew Whitten

Mr. Whitten does not have sufficient driving experience over the past 3 years under normal highway operating conditions that would serve as an adequate predictor of future safe performance.

242. David M. Wibirt

Mr. Wibirt does not have sufficient driving experience over the past 3 years under normal highway operating conditions that would serve as an adequate predictor of future safe performance.

243. David Wills

Mr. Wills does not have sufficient driving experience over the past 3 years under normal highway operating conditions that would serve as an adequate predictor of future safe performance.

244. James W. Wilson

Mr. Wilson does not have sufficient driving experience over the past 3 years under normal highway operating conditions that would serve as an adequate predictor of future safe performance.

245. Douglas M. Worley

Mr. Worley does not have sufficient driving experience over the past 3 years under normal highway operating conditions that would serve as an adequate predictor of future safe performance.

246. Donald Wright

Mr. Wright does not have sufficient driving experience over the past 3 years under normal highway operating conditions that would serve as an adequate predictor of future safe performance.

247. Allen W. Wyskowski

Mr. Wyskowski does not have sufficient driving experience over the past 3 years under normal highway operating conditions that would serve as an adequate predictor of future safe performance.

Authority: 49 U.S.C. 322, 31315, and 31136; 49 CFR 1.73.

Issued on: December 4, 2000.
Brian M. McLaughlin,
Director, Office of Policy Plans and Regulations.

[FR Doc. 00-31346 Filed 12-8-00; 8:45 am]

BILLING CODE 4910-EX-P